DEPARTMENT OF AGRICULTURE

Forest Service

Southwestern Region, Arizona, New Mexico, West Texas, and West Oklahoma Amendment of Land and Resource Management Plans in the Southwestern Region

AGENCY: Forest Service, USDA.

ACTION: Cancellation notice.

SUMMARY: On August 7, 2001, a Notice of Intent (NOI) to prepare an environmental impact statement to amend National Forest land and resource management plans in the Southwestern Region to modify standards and guidelines for Mexican spotted owl and northern goshawk within wildland-urban interface areas and to emphasize the management of wildland-urban interface areas throughout the southwest was published in the Federal Register (66 FR 41198-41200). This 2001 NOI is hereby rescinded.

FOR FURTHER INFORMATION CONTACT: Peter Gaulke, Regional Environmental Coordinator, USDA Forest Service Southwestern Regional Office, 333 Broadway Blvd., SE., Albuquerque, NM 87102-3498, telephone (505) 842-3256.

SUPPLEMENTARY INFORMATION: The need to amend forest plans to modify standards and guidelines for Mexican spotted owl and northern goshawk within wildland-urban interface areas varied throughout the forests and grasslands of the Southwestern Region. As such, a region wide amendment of all forest plans was not deemed necessary. Those forest that have a need to their respective plans may do so on a case-by-case basis. As the forests of the Southwestern Region begin the Forest Plan revision process in Fiscal Year 2004, they can address this need in context with other resource and social issues.

Dated: September 29, 2003.
Lucia M. Turner,
Deputy Regional Forester.

[FR Doc. 03-25565 Filed 10-8-03; 8:45 am]

BILLING CODE 3410-11-M